NATIONAL ARCHIVES AND RECORDS ADMINISTRATION

36 CFR Part 1253

[FDMS No. NARA-17-0002]; Agency No. NARA-2017-021

RIN 3095-AB94

Location of NARA Facilities and Hours of Use: Barack Obama Library

AGENCY: National Archives and Records Administration.

ACTION: Direct final rule.

SUMMARY: NARA is amending our Location of NARA Facilities and Hours of Use regulation to add the address and contact information for the Barack Obama Presidential Library. These changes will affect all people who wish to access records from the Barack Obama Presidential administration.

DATES: This rule is effective on March 27, 2017 without further notice, unless we receive adverse written comment that warrants revision by March 15, 2017. If we receive such comments, we will publish a timely withdrawal of the direct final rule in the Federal Register and inform the public that the rule will not take effect.

FOR FURTHER INFORMATION CONTACT: Kimberly Keravuori, by telephone at 301-837-3151, by email at regulation_comments@nara.gov, or by mail at Kimberly Keravuori, External Policy Program Manager; Strategy Division (MP), Suite 4100; National Archives and Records Administration; 8601 Adelphi Road; College Park, MD 20740-6001.

SUPPLEMENTARY INFORMATION:

Regulatory Review Information

This rule is not a significant regulatory action for the purposes of E.O. 12866 and has been reviewed by the Office of Management and Budget (OMB). It is also not a major rule as defined in 5 U.S.C. Chapter 8, Congressional Review of Agency Rulemaking. As required by the Regulatory Flexibility Act, we certify that this rule will not have a significant impact on a substantial number of small entities. It simply adds address and contact information for a new NARA facility.

NARA believes that a public comment period is unnecessary as this rule simply adds a new NARA facility, so it meets the good cause exception under the Administrative Procedure Act (5 U.S.C.(b)(3)(B)). This rule also does not have any Federalism implications.

List of Subjects in 36 CFR Part 1253

Archives and records, Federal buildings and facilities, Presidential records.

For the reasons stated in the preamble, NARA amends 36 CFR part 1250 as follows:

PART 1253—LOCATION OF NARA FACILITIES AND HOURS OF USE

1. The authority citation for part 1253 continues to read as follows:

Authority: 44 U.S.C. 2104(a).

2. Amend § 1253.3 by adding paragraph (n) to read as follows:

§ 1253.3 Presidential Libraries.

* * * * *

(n) Barack Obama Library is located at 2500 West Golf Road, Hoffman Estates, IL 60169-1114. The phone number is 847-252-5700 and the fax number is 847-252-5799. The email address is obama.library@nara.gov.

David S. Ferriero,
Archivist of the United States.

[FR Doc. 2017-03502 Filed 2-22-17; 8:45 am]

BILLING CODE 7515-01-P